DEPARTMENT OF EDUCATION

[Docket ID ED-2025-FSA-0811]

Privacy Act of 1974; Matching Program

AGENCY: Federal Student Aid, U.S. Department of Education.

ACTION: Notice of a new matching program.

SUMMARY: Pursuant to the Privacy Act of 1974, as amended by the Computer Matching and Privacy Protection Act of 1988 and the Computer Matching and Privacy Protection Amendments of 1990 (Privacy Act), and Office of Management and Budget (OMB) guidance on the conduct of matching programs, notice is hereby given of the re-establishment of the matching program between the U.S. Department of Education (Department), as the recipient agency, and the U.S. Department of the Treasury (Treasury), Internal Revenue Service (IRS), as the source agency, for the purpose of determining eligibility for, or the amount of repayments of obligations under, Income-Driven Repayment (IDR) plans, the Direct Loan Program, and determining eligibility for and the amount of Federal student financial aid under the Pell Grant Program, Federal Work-Study (FWS) Program, and the Federal Supplemental Educational Opportunity Grant (FSEOG) Program, under the authority of the Fostering Undergraduate Talent by Unlocking Resources for Education Act (FUTURE Act), Public Law 116-91, 133 Stat. 1189-1197 (2019), as amended by the Coronavirus Aid, Relief, and Economic Security Act (CARES Act), Public Law 116-136, 134 Stat. 281-615 (2020), and the FAFSA Simplification Act, title VII of division FF of Public Law 116-260, 134 Stat. 3137-3201 (2020) (which is part of the Consolidated Appropriations Act, 2021), as amended by the FAFSA Simplification Act Technical Corrections Act, division R of Public Law 117-103, 136 Stat. 819-821 (2022) (which is part of the Consolidated Appropriations Act, 2022).

DATES: The period of this matching program is estimated to cover the 18-month period from January 30, 2026 through July 29, 2027. However, the matching program will become applicable at the later of the following two dates: January 30, 2026, or 30 days after the publication of this notice, on December 23, 2025, unless comments have been received from interested members of the public requiring modification and republication of the notice. The matching program will continue for 18 months after the applicable date and may be extended for up to an additional 12 months, if the Data Integrity Boards (DIBs) of ED and Treasury determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ”.

Privacy Note: The Department's policy is generally to make comments received from members of the public available for public viewing in their entirety on the Federal eRulemaking Portal at http://www.regulations.gov. Therefore, commenters should include in their comments only information about themselves that they wish to make publicly available.

FOR FURTHER INFORMATION CONTACT: Corinne Sauri, Program Analyst, U.S. Department of Education, Federal Student Aid, 400 Maryland Ave. SW, Washington, DC 20024. Telephone: (202) 245-6412.

If you are deaf, hard of hearing, or have a speech disability and wish to access telecommunications relay services, please dial 7-1-1.

SUPPLEMENTARY INFORMATION: In accordance with the Privacy Act, OMB “Final Guidance Interpreting the Provisions of Public Law 100-503, the Computer Matching and Privacy Protection Act of 1988,” published in the Federal Register on June 19, 1989 (54 FR 25818-25829), and OMB Circular No. A-108, notice is hereby provided of the re-establishment of a matching program between the IRS and the Department pursuant to which the IRS will disclose to the Department certain FTI of an individual, upon approval being provided by the individual to the Department, for the purpose of determining eligibility for, or repayment obligations under, IDR plans under title IV of the HEA with respect to loans under part D of title IV of the HEA; and determining eligibility for, and amount of, Federal student financial aid under the Pell Grant Program authorized under subpart 1 of part A of Title IV of the HEA, FWS Program, and the FSEOG Program authorized under part C of title IV of the HEA or the Direct Loan Program, as set forth in IRC 6103(l)(13)(A) and (C).

The FTI that the IRS discloses to the Department under sections 6103(l)(13)(A) and (C) of the IRC may also be used by ED for the purposes of: (a) reducing the net cost of improper payments: (i) under IDR plans and (ii) relating to awards of Federal student financial aid under the Pell Grant, FWS and Direct Loan programs; (b) oversight by the Department's OIG as authorized by chapter 4 of title 5 of the United States Code, except for the purpose of conducting criminal investigations or prosecutions; and (c) conducting analyses and forecasts for estimating costs related to: (i) IDR plans and (ii) awards of Federal student financial aid under a program authorized under the Pell Grant, FWS and Direct Loan programs, as set forth in IRC § 6103(l)(13)(D). The FTI will not be duplicated or redisclosed for these uses.

Participating Agencies

U.S. Department of Education (Department) and the U.S. Department of the Treasury, Internal Revenue Service (IRS).

Authority for Conducting the Matching Program

This matching program is authorized by the FUTURE Act, as amended. The FUTURE Act amended section 6103(l)(13) of the IRC to authorize the IRS to disclose to ED certain FTI for the purposes set forth in the SUPPLEMENTARY INFORMATION section of this Notice provided certain conditions are satisfied. In addition, 5 U.S.C. 552a(b)(3) provides authority for the IRS to disclose Privacy Act-protected records to the Department pursuant to a published routine use in an applicable system of records notice for a purpose that is compatible with the purposes for which the IRS collected the records. Further, the Department is authorized to participate in the matching program pursuant to the HEA, including sections 483 and 494(a) and (b) of the HEA (20 U.S.C. 1090 and 1098h(a) and (b)) and the FUTURE Act.

Purpose(s)

The purpose of this matching program between the IRS and the Department is for the IRS to disclose to the Department certain FTI of an individual, upon approval being provided by the individual to the Department, for determining eligibility for, or repayment obligations under, IDR plans under title IV of the HEA with respect to loans under part D of title IV of the HEA; and determining eligibility for, and amount of, Federal student financial aid under a program authorized under subpart 1 of part A, part C, or part D of title IV of the HEA.

The FTI that the IRS discloses to ED under sections 6103(l)(13)(A) and (C) of the IRC may also be used by the Department for the purposes of: (a) reducing the net cost of improper payments: (i) under IDR plans and (ii) relating to awards of Federal student financial aid under the Pell Grant, FWS and Direct Loan programs; (b) oversight by ED's OIG as authorized by chapter 4 of title 5 of the United States Code, except for the purpose of conducting criminal investigations or prosecutions; and (c) conducting analyses and forecasts for estimating costs related to: (i) IDR plans and (ii) awards of Federal student financial aid under a program authorized under the Pell Grant, FWS and Direct Loan programs, as set forth in IRC § 6103(l)(13)(D). The FTI will not be duplicated or redisclosed for these uses.

The FTI information that the Department will obtain as a result of this matching program effectuates the purpose of the HEA because it provides an efficient and comprehensive match to determine eligibility for, and the amount of, Federal student financial aid under a program authorized under subpart 1 of part A, part C, or part D of title IV of the HEA, and eligibility for, or repayment obligations under, IDR plans for loans under the Federal Direct Loan Program.

Categories of Individuals

This matching program covers students (including a student's spouse for an independent student and a student's parent(s) for dependent student) who apply for Federal student financial assistance under title IV of the HEA through the Free Application for Federal Student Aid (FAFSA®) and borrowers (including spouses of borrowers who are independent students) who have had a loan disbursed and are fully responsible to pay the loan and interest back to the loan holder under applicable Federal student loan programs administered under the authority of title IV of the HEA, or who have such a loan written off due to default. This matching program also includes as a “borrower” an individual who is responsible for completing a service obligation and fails to complete the service obligation in exchange for having received a grant under the Teacher Education Assistance for College and Higher Education (TEACH) Grant Program authorized under subpart 9 of part A of title IV of the HEA.

Categories of Records

This matching program covers the following categories of records:

(1) An applicant's information submitted to the Department to determine the applicant's eligibility for Federal student financial assistance under a program authorized under subpart 1 of part A, part C, or part D of title IV of the HEA;

(2) A borrower's information submitted to ED to determine the borrower's eligibility for, or repayment obligations under, IDR plans under title IV of the HEA with respect to loans under part D of title IV of the HEA;

(3) An applicant's approval and consent submitted to ED to process an application for determining eligibility for Federal student financial assistance under a program authorized under subpart 1 of part A, part C, or part D of aid under title IV of the HEA;

(4) A borrower's approval and consent submitted to ED to process an application for determining eligibility for, or repayment obligations under, IDR plans under title IV of the HEA with respect to loans under part D of title IV of the HEA; and

(5) FTI on individuals from the IRS' Customer Account Data Engine (CADE) Individual Master File.

More specifically, the Department will transmit the following specific data elements to the IRS under the matching program:

(1) Social Security Number (SSN)/Taxpayer Identification Number (TIN);

(2) Tax year for which FTI is required;

(3) Last name;

(4) Date of birth (DOB);

(5) Unique identifier; and

(6) Date/time stamp of the individual's approval for use of FTI in determining eligibility by ED.

In addition, in response to a valid request submitted by ED to the IRS pursuant to section 6103(l)(13)(A) of the IRC (IDR request) that matches a tax record for the requested SSN/TIN and tax year, the IRS will return the following specific data elements to ED:

(1) SSN/TIN (provided in the request);

(2) Tax year (associated with FTI provided);

(3) Last name;

(4) Filing status code;

(5) Adjusted gross income (AGI) amount;

(6) Total number of exemptions; and

(7) Total number of dependents.

Further, in response to a valid request submitted by ED to the IRS pursuant to section 6103(l)(13)(C) of the IRC (FAFSA request) that matches a tax record for the requested SSN/TIN and tax year, the IRS will return the following specific data elements to ED:

(1) SSN/TIN (provided in the request);

(2) Tax year (provided in the request);

(3) Last name (provided in the request);

(4) Filing status code;

(5) AGI amount;

(6) Total number of exemptions;

(7) Total number of dependents;

(8) Income earned from work (sum of wages, farm income, Schedule C income);

(9) Total amount of income tax paid;

(10) Total allowable education credits;

(11) Sum of untaxed IRA contributions and other payments to qualified plans;

(12) Total amount of untaxed IRA distributions;

(13) Tax exempt interest;

(14) Sum of untaxed pensions and annuities;

(15) Net profit/loss from Schedule C; and

(16) Indicator of filing for Schedules A, B, D, E, F, and H.

System(s) of Records

The Department will disclose, with written consent, to the IRS information under this matching program from the Department's systems of records notice entitled “FUTURE Act System (FAS)” (18-11-23), published in the Federal Register on June 29, 2023 (88 FR 42220-42226).

The IRS will disclose to the Department FTI under this matching program from the IRS's system of records notice entitled “Customer Account Data Engine (CADE) Individual Master File (IMF)—Treasury/IRS” (Treasury/IRS 24.030), published in the Federal Register on September 8, 2015 (80 FR 54082-54083).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Lucas,
Acting Chief Operating Officer, Federal Student Aid.

[FR Doc. 2025-23632 Filed 12-22-25; 8:45 am]

BILLING CODE 4000-01-P